DEPARTMENT OF THE INTERIOR

Bureau of Land Management

[A2407-014-004-065516; #O2509-014-004-125222; LLNM921000]

Notice of Proposed Reinstatement of BLM New Mexico Terminated Oil and Gas Leases, Lea and Eddy Counties, NM

AGENCY: Bureau of Land Management, Interior.

ACTION: Notice of proposed lease reinstatement.

SUMMARY: In accordance with the Mineral Leasing Act of 1920, as amended, the Bureau of Land Management (BLM) received petitions for reinstatement of terminated competitive oil and gas leases NMNM134896, NMNM134897, NMNM138884, NMNM138885, NMNM138887, NMNM141006, NMNM141409, NMNM141418, NMNM142575, NMNM105821017, and NMNM105821018 from FAE II LLC (FAE), Murchison Oil & Gas, LLC (Murchison), Blackbeard Operating, LLC (Blackbeard), MR NM Operating LLC (MR NM), V-F Petroleum Inc (V-F), Ridge Runner Agent Inc. (Ridge Runner), David J Disiere (Disiere), and Coterra Energy Operating Co. (Coterra). The lessees timely filed petitions for reinstatement of the competitive oil and gas leases located in Lea and Eddy counties, New Mexico. The lessees paid the required rentals accruing from the date of termination. No leases have been issued that affect these lands. The BLM proposes to reinstate the leases.

FOR FURTHER INFORMATION CONTACT: Ross Klein, Natural Resource Specialist, Branch of Fluid Minerals, Bureau of Land Management, New Mexico State Office, 301 Dinosaur Trail, Santa Fe, New Mexico 87508, (505) 954-2143, rklein@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The lessees agree to new lease terms for rental of $20 per acre, or fraction thereof, per year, and a royalty rate of 20 percent. The lessees agreed to amended stipulations. The lessees paid the required administration fee and have reimbursed the BLM for the cost of publishing this notice.

The lessees meet the requirements for reinstatement of the lease per sec. 31(d) and (e) of the Mineral Leasing Act of 1920 (30 U.S.C. 188). The BLM is proposing to reinstate lease NMNM134896 (FAE) effective October 1, 2023, lease NMNM134897 (FAE) effective October 1, 2023, lease NMNM138884 (Murchison) effective November 1, 2019, lease NMNM138885 (Blackbeard) effective November 1, 2020, lease NMNM138887 (Blackbeard) effective November 1, 2020, lease NMNM141006 (MR NM) effective January 1, 2024, lease NMNM141409 (V-F) effective January 1, 2024, lease NMNM141418 (Ridge Runner) effective January 1, 2022, lease NMNM142575 (Disiere) effective June 1, 2022, lease NMNM105821017 (Coterra) effective July 1, 2024, and lease NMNM105821018 (Coterra) effective July 1, 2024 for the remainder of the primary term, subject to: the original terms and conditions of the lease; amended stipulations; increased rental of $20 per acre; and increased royalty of 20 percent.

(Authority: 30 U.S.C. 188(e)(4) and 43 CFR 3108.23)

Michael J. Gibson,
Deputy State Director, Minerals.

[FR Doc. 2026-03396 Filed 2-19-26; 8:45 am]

BILLING CODE 4331-23-P